DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On October 22, 2020, OFAC determined that the property and interests in property subject to U.S. jurisdiction of the following persons are blocked under the relevant sanctions authorities listed below.

Entities

1. BAYAN RASANEH GOSTAR INSTITUTE (a.k.a. BAYAN GOSTAR MEDIA INSTITUTE; a.k.a. BAYAN RASANE GOSTAR INSTITUTE), Iran; Additional Sanctions Information—Subject to Secondary Sanctions [ELECTION-E.O. 13848] (Linked To: ISLAMIC REVOLUTIONARY GUARD CORPS (IRGC)-QODS FORCE).

Designated pursuant to section 2(a)(i) of Executive Order 13848 of September 12, 2018, “Imposing Certain Sanctions in the Event of Foreign Interference in a United States Election,” 83 FR 46843, 3 CFR, 2018 Comp., p. 869, (E.O. 13848) for having directly or indirectly engaged in, sponsored, concealed, or otherwise been complicit in foreign interference in a United States election.

2. INTERNATIONAL UNION OF VIRTUAL MEDIA (a.k.a. IUVM), Iran; Additional Sanctions Information—Subject to Secondary Sanctions [ELECTION-E.O. 13848] (Linked To: ISLAMIC REVOLUTIONARY GUARD CORPS (IRGC)-QODS FORCE).

Designated pursuant to section 2(a)(iii) of E.O. 13848 for being owned or controlled by, or having acted or purported to act for or on behalf of, directly or indirectly, the ISLAMIC REVOLUTIONARY GUARD CORPS (IRGC)-QODS FORCE, an entity whose property or interests in property are blocked pursuant to E.O. 13848.

3. ISLAMIC RADIO AND TELEVISION UNION (a.k.a. IRTVU), Iran; Beirut, Lebanon; Kabul, Afghanistan; Additional Sanctions Information—Subject to Secondary Sanctions [ELECTION-E.O. 13848] (Linked To: ISLAMIC REVOLUTIONARY GUARD CORPS (IRGC)-QODS FORCE).

Designated pursuant to section 2(a)(iii) of E.O. 13848 for being owned or controlled by, or having acted or purported to act for or on behalf of, directly or indirectly, the ISLAMIC REVOLUTIONARY GUARD CORPS (IRGC)-QODS FORCE, an entity whose property or interests in property are blocked pursuant to E.O. 13848.

4. ISLAMIC REVOLUTIONARY GUARD CORPS (a.k.a. AGIR; a.k.a. ARMY OF THE GUARDIANS OF THE ISLAMIC REVOLUTION; a.k.a. IRAN'S REVOLUTIONARY GUARD CORPS; a.k.a. IRAN'S REVOLUTIONARY GUARDS; a.k.a. IRG; a.k.a. IRGC; a.k.a. ISLAMIC REVOLUTION GUARDS CORPS; a.k.a. ISLAMIC REVOLUTIONARY CORPS; a.k.a. ISLAMIC REVOLUTIONARY GUARDS; a.k.a. ISLAMIC REVOLUTIONARY GUARDS CORPS; a.k.a. PASDARAN; a.k.a. PASDARAN-E INQILAB; a.k.a. PASDARN-E ENGHELAB-E ISLAMI; a.k.a. REVOLUTIONARY GUARD; a.k.a. REVOLUTIONARY GUARDS; a.k.a. SEPAH; a.k.a. SEPAH PASDARAN; a.k.a. SEPAH-E PASDARAN ENGHELAB ISLAMI; a.k.a. SEPAH-E PASDARAN-E ENGHELAB-E ESLAMI; a.k.a. SEPAH-E PASDARAN-E ENQELAB-E ESLAMI; a.k.a. THE ARMY OF THE GUARDIANS OF THE ISLAMIC REVOLUTION; a.k.a. THE IRANIAN REVOLUTIONARY GUARDS), Tehran, Iran; Syria; Additional Sanctions Information—Subject to Secondary Sanctions [FTO] [SDGT] [NPWMD] [IRGC] [IFSR] [IRAN-HR] [HRIT-IR] [ELECTION-E.O. 13848].

Designated pursuant to section 2(a)(i) of E.O. 13848 having directly or indirectly engaged in, sponsored, concealed, or otherwise been complicit in foreign interference in a United States election.

5. ISLAMIC REVOLUTIONARY GUARD CORPS (IRGC)-QODS FORCE (a.k.a. AL QODS; a.k.a. IRGC-QF; a.k.a. IRGC-QUDS FORCE; a.k.a. ISLAMIC REVOLUTIONARY GUARD CORPS-QODS FORCE; a.k.a. JERUSALEM FORCE; a.k.a. PASDARAN-E ENGHELAB-E ISLAMI (PASDARAN); a.k.a. QODS (JERUSALEM) FORCE OF THE IRGC; a.k.a. QODS FORCE; a.k.a. QUDS FORCE; a.k.a. SEPAH-E QODS; a.k.a. SEPAH-E QODS (JERUSALEM FORCE)), Tehran, Iran; Syria; Additional Sanctions Information—Subject to Secondary Sanctions [FTO] [SDGT] [SYRIA] [IRGC] [IFSR] [IRAN-HR] [ELECTION-E.O. 13848].

Designated pursuant to section 2(a)(i) of E.O. 13848 having directly or indirectly engaged in, sponsored, concealed, or otherwise been complicit in foreign interference in a United States election.

Dated: October 22, 2020.
Andrea Gacki,
Director, Office of Foreign Assets Control, U.S. Department of the Treasury.

[FR Doc. 2020-23807 Filed 10-27-20; 8:45 am]

BILLING CODE 4810-AL-P